DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 77 FR 53889-53890, dated September 4, 2012) is amended to reorganize the Office of Surveillance, Epidemiology and Laboratory Services, Centers for Disease Control and Prevention.

Section C-B, Organization and Functions, is hereby amended as follows:

Delete in its entirety the titles and functional statements for the Public Health Informatics and Technology Program (CPH), and the Public Health Surveillance Program Office (CPJ) and insert the following:

Public Health Surveillance and Informatics Program Office (CPM). The mission of the Public Health Surveillance and Informatics Program Office (PHSIPO) is to advance the science and practice of public health surveillance and informatics. PHISPO (1) manages public health surveillance systems with cross-cutting utility for multiple CDC programs, and (2) serves as a focal point at CDC for addressing common issues, fostering innovation, and advancing best practices in the fields of public health surveillance and informatics. The disciplines of public health surveillance and informatics are strongly inter-related. Informatics concerns the collection, classification, storage, and retrieval and dissemination of recorded knowledge. Surveillance involves the collection, management, analysis, interpretation, and dissemination of information about the health of populations in order to inform and guide public health programs. PHISPO strives to improve the usefulness and the impact of public health surveillance and to improve information and knowledge management across the public health enterprise information technology and health information exchange, in public health surveillance and informatics.

Office of the Director (CPM1). (1) Leads the development of policy, long-range plans, and programs of the Public Health Surveillance and Informatics Program Office (PHSIPO); (2) serves as the focus for addressing common surveillance and informatics issues faced by programs across CDC; (3) identifies and disseminates evidence-based information regarding best practices for public health surveillance and information management; (4) plans, directs, enhances and collaboratively supports national surveillance programs and information technology initiatives, including the use of electronic health records, improving the nation's capability to monitor disease and provide public health situational awareness; (5) develops, recommends or implements policies and procedures relating to information management, informatics resource management and support services as appropriate; (6) facilitates coordination of surveillance and informatics activities across local, state, federal jurisdictions/agencies; (7) contributes to surveillance and informatics functions that are part of CDC's public health preparedness and response activities; (8) promotes a multidisciplinary approach (epidemiology, statistics, informatics, program evaluation, economic, qualitative, etc.) to assure that CDC surveillance and information systems serve public health program objectives; (9) coordinates the establishment and maintenance of internal CDC processes for decision-making regarding shared surveillance and informatics policies, practices, standards, and services that have applicability throughout CDC; (10) optimizes the portfolio of CDC's informatics and surveillance projects and systems by identifying and facilitating opportunities for cross-coordinating National Center/Institute/Office collaboration in order to leverage investments and promote efficiency and integration; and (11) collaborates and coordinates with all CDC organizations on informatics and health information technology issues and works closely with the Office of the Chief Information Officer on the interrelationships between informatics and information technology services, security, and information technology capital planning.

Business Management Activity (CPM12). (1) Provides leadership, oversight, and guidance in the management and operations of PHSIPO programs; (2) plans, coordinates, and provides administrative management support, advice, and guidance to the PHSIPO, involving the areas of fiscal management, procurement, property management, personnel, travel, and other administrative services; (3) coordinates the development of annual budget request; (4) conducts management analyses of the program office and programs and staff to ensure optimal utilization of resources and accomplishment of program objectives; (5) plans, allocates, and monitors resources; (6) maintains liaison and collaborates with other CDC components and external organizations in support of the program office management and operations; (7) works closely with other federal agencies involved with interagency agreements; (8) coordinates program office requirements relating to procurement, grants, cooperative agreements, material management, and interagency agreements; (9) provides fiscal management and stewardship of grants, contracts, and cooperative agreements; and (10) develops and implements administrative policies, procedures, and operations, as appropriate for the program office, and prepares special reports and studies, as required, in the administrative management areas.

Informatics Research and Development Activity (CPM13). (1) Advances the field of public health informatics through applied research and innovation; (2) collaborates with members of CDC programs as well as the broader public health community to develop innovative technologies and techniques to positively impact public health practice; (3) transitions new informatics solutions and techniques to the appropriate public health programs for deployment and implementation; (4) provides the program office, Office of Surveillance, Epidemiology and Laboratory Services (OSELS), CDC, and its external research and public health partners, consultation, guidance, support, and insight into the use of new informatics solutions for public health practice; (5) leverages its resources to rapidly create prototypes and examine hypotheses generated by the program office, OSELS, CDC, and its external research and public health partners; (6) provides OSELS and CDC an optimal (i.e., flexible and scalable) environment for the rapid development of prototype public health informatics solutions for testing and evaluation purposes; (7) performs relevant knowledge dissemination to CDC and its partners via multiple modalities, including presentations, manuscripts, and Web-based content; (8) provides education to fellows, colleagues, and partners on the tools/techniques/methodologies used by the Informatics Research and Development Activity (IRDA); and (9) provides regular updates to the program office and OSELS leadership as to the status of all projects in the technology lab including both internal (IRDA) and external (non-IRDA CDC programs).

Biosurveillance Coordination Activities (CPM14). (1) Enhances the nation's biosurveillance capability by leading the development of a national biosurveillance strategy for human health which establishes priorities for the nation's next-generation biostuyeillance capability and provides timely, comprehensive, and accessible information to strengthen public health practice, provide value to clinicians, and builds upon current systems and resources; (2) establishes and maintains relationships across CDC and with external partners in other federal agencies, state, local, tribal, territorial, international surveillance organizations, and health care organizations and practitioners, to inform the direction and management of the biosurveillance enterprise; (3) links subject matter experts to efforts to support biosurveillance practice and development; (4) provides leadership for and outreach to biosurveillance stakeholders external to CDC; (5) provides oversight or manages federal advisory committees/subcommittees, including representatives from state and local government public health authorities, public and private biosurveillance stakeholders, and appropriate private sector health care entities; (6) establishes and maintains a national registry of biosurveillance systems, programs, collaboratives, registries, and tools; and (7) provides advice and guidance to CDC programs in order to advance the science of biosurveillance and promote effective use of biosurveillance information in meeting CDC's mission.

Division of Behavioral Surveillance (CPMB). (1) Plans and directs all activities related to the Behavioral Risk Factor Surveillance System (BRFSS), a state-based nationwide population survey focused on chronic conditions and risk behaviors and the largest telephone-based health survey in the world; (2) coordinates BRFSS surveillance activities across all states and CDC programs; (3) provides support to build state capacity for BRFSS survey operations and data management, and for the analysis, dissemination, and use of the data by state agencies and universities to set public health priorities and monitor public health programs; (4) develops guidelines and criteria for the enhancement of behavioral risk factor surveys at the state and local level; (5) delivers timely behavioral risk factor data of high validity and reliability to CDC scientists, the national public health community, and the general public; (6) supports and enhances analysis and dissemination of information from the BRFSS to promote the broad use and application of BRFSS results and findings by policy and decision makers, public health professionals, and other relevant audiences through communication channels and formats appropriate to these constituencies; (7) plans and coordinates cross cutting research related to survey methodology; (8) provides scientific leadership and guidance to surveillance programs to assure highest scientific quality and professional standards related to BRFSS; (9) provides leadership to CDC and other organizations to support effective and flexible public health surveillance for health conditions, including rapidly emerging public health threats; (10) builds and manages mental health surveys and provides support to the states for the collection and use of population data on mental health; and (11) provides administrative and management support, as required, for states and territories including oversight of BRFSS and other grants, cooperative agreements, and reimbursable agreements.

Division of Notifiable Diseases and Healthcare Information (CPMC). (1) Provides leadership to OSELS, CDC, and other organizations to promote and support effective public health surveillance for notifiable diseases and conditions; (2) facilitates and advances the integration of informatics, epidemiologic, and statistical methods in developing the use of automated healthcare information systems for situation awareness, public health surveillance, and population health; (3) coordinates activities associated with automated health-related data, public health syndromic surveillance and monitoring diseases that are reportable under state laws; (4) provides epidemiologic and statistical assistance and consultation in support of automated healthcare (including syndromic), health-related data, and notifiable conditions surveillance; (5) implements innovative technological and statistical techniques for analysis and reporting of public health surveillance data; (6) interacts with other CDC organizations, other governmental agencies, private organizations, and other outside groups in developing and promoting the use of automated healthcare information systems for surveillance purposes; (7) promotes the objective that public health program goals guide the development of new surveillance methods and the operation of national surveillance systems managed by the division; (8) reports surveillance information to inform public health interventions; and (9) supports and conducts research and evaluation projects that improve the ability of public health practitioners to use automated healthcare information for surveillance.

Office of the Director (CPMC1). (1) Plans, directs, coordinates, and manages the operations of the Division of Notifiable Diseases and Healthcare Information; (2) develops strategy, priorities, goals and objectives and provides leadership in policy formulation, communications, and guidance in program planning and development; (3) facilitates the science of the division and undertakes special scientific activities; (4) promotes active engagement with stakeholders and communities of practice; (5) coordinates division activities with other components of PHSPO, OSELS, CDC and other federal agencies; and (6) coordinates compliance with Office of Management and Budget and responses to the General Accountability Office.

Surveillance and Analysis Branch (CPMCB). (1) Oversees national surveillance and situation awareness actively used for public or population health practice and decision-making; (2) supports and conducts applied research and development activities, and evaluation projects that improve the ability of public health practitioners to use and analyze automated healthcare and health-related information for surveillance and situation awareness; (3) implements and develops new and innovative surveillance methods, and statistical or informatics tools used for surveillance; (4) fosters innovation, implementation and translation of research findings and best practices; (5) conducts surveillance evaluations; (6) provides epidemiologic assistance and consultation in support of automated healthcare (including syndromic) and notifiable conditions surveillance; (7) provides development and support for extramural activities, including cooperative agreements and grants; (8) coordinates technical assistance and consultations for major projects with key public health partners; (9) enhances and maintains partnerships with other federal agencies, state and local public health departments, national organizations, health plans, care networks, and regional health information networks to meet public health surveillance and informatics needs; (10) coordinates partner interactions and communications; (11) assures administrative and budgetary data is available on a timely basis and in readily available formats for scientific staff.

Information Systems and Statistical Support Branch (CPMCC). (1) Provides statistical analysis and consultation, information management and dissemination services; (2) manages informatics interaction with other units within OSELS and other units within CDC which oversee surveillance practice; (3) facilitates and advances the integration of informatics, epidemiologic, and statistical methods and tools in developing the use of automated healthcare and health-related information systems in public health surveillance; (4) facilitates systems IT development, operations and maintenance; (5) oversees activities associated with information technology aspects and informatics processes of data collection, processing, reporting, management and sharing (includes hardware and software, systems certification); (6) oversees statistical support, data quality assessment, and data management of surveillance systems managed by the division, (7) fosters innovation, implementation and translation of informatics tools and methods and best practices; (8) provides development and support for extramural activities, including contracts; (9) promotes the coordination, evaluation, and integration of public health surveillance programs across CDC and public health partners; and (10) assures administrative and budgetary data is available on a timely basis and in readily available formats for scientific staff.

Division of Informatics Practice, Policy and Coordination (CPMD). (1) Establishes and maintains relationships for public health informatics across CDC, with partners and with other health care entities; (2) provides expertise and support to CDC staff, partners, and other health care entities on informatics methods, processes, policies, and standards; (3) promotes health standards and facilitates forums across CDC, sectors, and other federal agencies to ensure efficient data exchange, interoperability of systems, and consistent implementation of methods and policy; (4) promotes the interests of public health in the development of informatics standards (working with federal, state and local, and private sector initiatives and organizations) and initiatives (e.g. electronic health records, the Nationwide Health Information Network) to ensure the availability and utilization of expanded health data for public health purposes; (5) enhances the ability of public health officials to access and use data, information, systems, and technologies collected through traditional and non-traditional information systems, and through developing approaches to allow access while protecting privacy, confidentiality, and intellectual property rights; (6) enhances and maintains partnerships with other federal agencies, state and local public health departments, national organizations, health plans, care networks, regional health information exchanges to meet public health informatics needs; and (7) works towards more efficient and effective public health information systems by aligning informatics solutions with health information technology policies and translating emerging science, research and learning into practice.

Office of the Director (CPMD1). (1) Provides overall vision and strategic direction of the Division of Informatics Practice, Policy and Coordination (DIPPC) activities; (2) plans, directs, coordinates, implements, and manages DIPPC operational activities; (3) provides financial oversight of DIPPC activities; (4) provides division-level oversight to assure use of scientifically sound systems initiation and operation principles for programs and projects; (5) provides division-level oversight and management of scientific clearance process; (6) assures division-level adherence to Instructional Review Board (IRB), Office of Management and Budget (OMB), and other policy issues; (7) facilitates best practices for project management within the division; (8) provides operational oversight of Project Portfolio for OSELS to assure optimal resource utilization; (9) coordinates and facilitates division-level Capital Planning and Investment Control process issues; (10) evaluates, designs, and deploys, where appropriate, division-level processes, products and system for project management and system development; (11) assures the sharing of consistent, audience-appropriate, and high quality information relating to division-level activities, including Web-based, audio, video, and print-based media; (12) provides coordination of division-level activities relating to congressional inquiries and media entities; (13) facilitates division-level information sharing and relationship management activities internally to agency and externally to partners; and (14) facilitates preliminary development of project proposals by CDC and external partners.

Informatics Strategy and Translation Branch (CPMDB). (1) Provides the critical role of informatics translation for the Public Health Surveillance and Informatics Program Office (PHSIPO); (2) develops strategies to bridge the Information Research and Development Activity (IRDA) activities with the translation efforts in the branch to further the mission of OSELS while ensuring alignment with national efforts; (3) examines (with the support of IRDA) new informatics techniques and methods to address public health priorities and problem areas; (4) provides oversight and coordination of informatics activities of the Centers of Excellence and Health Information Exchanges to support the translation of applied science and to ensure dissemination to the public health Informatics community at large; (5) provides support in the translation of any prototype informatics research product (i.e., created by OSELS, internal or external CDC partners) to public health practice (i.e., full deployment and implementation) by providing the critical expertise to assure that in the translation process, appropriate data, systems, and architecture standards are leveraged appropriately; (6) participates on various standards committees to ensure the availability and utilization of expanded health data for public health purposes and ensure information is promulgated to appropriate public health partners and related programs; (7) works closely with the OSELS policy director on the coordination on health information technology policies (e.g. electronic health records, the Federal Health Architecture, Nationwide Health Information Network); and (8) consults and coordinates with the Division of Informatics Solutions and Operations on the implementation of health information technology standards in public health information systems.

Outreach and Consultation Branch (CPMDC). (1) Provides outreach and consultation to critical public health partners to articulate public health informatics needs and priorities; (2) works with the Informatics Strategy and Translation Branch to develop strategies to address these public health priority areas; (3) works within OSELS, CDC, HHS, and other public health partners to define requirements through communities of practice and generates best practices for the public health informatics community; (4) establishes and maintains relationships for public health informatics; (5) facilitates the coordination of informatics activities across OSELS, CDC, and other critical public health/healthcare partners; and (6) promotes the development and adoption of standards and certification, health information technology policies, and articulates the implications for public health informatics programs.

Division of Informatics Solutions and Operations (CPME). (1) Provides informatics and information technology services to meet the needs of multiple programs across CDC, to meet the needs of CDC's external partner organizations and to further the informatics capabilities of public health generally; (2) analyses the information needs of public health programs and develops strategic solutions to address them; (3) provides expertise to client programs in information technology systems design, project management, data interchange strategies, data management, information technology security, information technology architecture, systems integration, technical standards, current technologies and best practice, rules governing federal information systems, and protocols for deploying and operating systems at CDC; (4) identifies opportunities for and develops shared information technology components that can be utilized by multiple programs and partners in order to increase efficiency, decrease cost, and promote interoperability and information sharing; (5) identifies opportunities for and develops information technology services that assist CDC programs and external partners; (6) provides expertise in and develops specifications for standards-based data interchanges for use by public health programs, and provides supporting services for electronic messaging such as online vocabulary management, message validation, security and credential management, routing and directory management; (7) provides management of large, complex datasets, provides data analytics and processes for transforming and translating data into useable form for scientific analysis, and provides mechanisms to make data accessible and available; (8) provides direct consultation and technical assistance to CDC programs and to external partners in order to help them achieve the technical and informatics capabilities required or endorsed by CDC; (9) develops and fosters adoption of informatics standards; (10) provides operational support of multiple public health programs through provision of informatics and information technology services; and (11) contributes to enhancement of informatics capability in the public health workforce.

Office of the Director (CPME1). (1) Provides scientific leadership in public health informatics, identifies new developments in the field of informatics that have the potential to improve the practice of public health informatics, and applies this leadership and expertise in providing informatics and information technology services to meet the needs of multiple programs across CDC, to meet the needs of CDC's external partner organizations and to further the informatics capabilities of public health; (2) plans, directs, coordinates, implements, and manages Division of Informatics Solutions and Operations (DISO) operational activities; (3) provides financial oversight of DISO activities; (4) provides division-level oversight to assure use of systems and project management practices that are in accord with industry best practices and HHS and federal guidelines; (5) provides division-level oversight and management of scientific clearance process; (6) assures division-level adherence to IRB, OMB, and other policy issues; (7) provides operational oversight of Project Portfolio for DISO to assure optimal resource utilization; (8) coordinates and facilitates division-level Capital Planning and Investment Control (CPIC) process issues; (9) evaluates, designs, and deploys, where appropriate, division-level processes, products and systems for project management and system development and operations; (10) assures the sharing of consistent, audience-appropriate, and high quality information relating to division-level activities, including Web-based, audio, video, and print-based media; (12) provides coordination of division-level activities relating to congressional inquiries and media entities; (13) facilitates division-level information sharing and relationship management activities internally to agency and externally to partners; and (14) facilitates preliminary development of project proposals by CDC and external partners.

Surveillance Services Branch (CPMEB). (1) Develops, maintains, and operates informatics shared services that support large-scale surveillance programs managed and operated by OSELS; (2) provides OSELS with information technology services that cross application and programmatic boundaries; (3) guides OSELS, CDC, and public health partners in the development and use of standardized messaging services and software; (4) provides vocabulary services to OSELS, CDC, and public health partners promoting the use of standards-based vocabulary in public health information systems; (5) plans, designs, engineers, and operates the data and information technology services architecture underlying OSELS surveillance activities; (6) provides guidance for development and/or implementation of the services required for compliance with federal architecture and operational standards to CDC; and (7) provides guidance and support to OSELS, CDC, and external partners in the design, development and operation of surveillance systems.

Enterprise Systems Branch (CPMEC). (1) Develops, implements, maintains, and operates enterprise systems and applications to meet the needs of public health programs across CDC and CDC's external partner organizations, in support of OSELS and CDC programmatic direction; (2) ensures that systems and applications are based on both informatics science and programmatic need and supports ongoing service commitments to partner programs and agencies; (3) provides guidance and support to OSELS, CDC, and external partners in the design and operation of information technology systems and applications; and (4) provides guidance for development and/or implementation of applications required to support programmatic needs in compliance with national architecture and operational standards.

Management Operations Security and Standards Branch (CPMED). (1) Provides consultation and services to support and expedite the deployment and operation of PHSIPO systems; (2) provides consultation, guidance, support, and insight into technical standards, security requirements, and architectural and operational constraints within the CDC network and/or within federal government, as applicable; (3) provides oversight of adherence to standards and security policies for development, implementation, and operation of OSELS information technology; (4) provides security services for OSELS systems and manages the certification and accreditation process for PHSIPO systems; (5) coordinates interaction and liaisons between PHSIPO systems and information technology project teams and CDC system hosting and network operations teams; and (6) ensures that strategic activities and strategic partnerships meet required policies.

Dated: September 25, 2012.
Sherri A. Berger,
Chief Operating Officer, Centers for Disease Control and Prevention.

[FR Doc. 2012-26283 Filed 10-25-12; 8:45 am]

BILLING CODE 4160-18-M